DEPARTMENT OF TRANSPORTATION

Federal Aviation Administration

14 CFR Part 71

[Airspace Docket No. 02-ACE-7]

Modification of Class D Airspace; Knob Noster, Whiteman AFB, MO; Modification of Class E Airspace; Knob Noster, Whiteman AFB, MO

AGENCY: Federal Aviation Administration (FAA), DOT.

ACTION: Final rule.

SUMMARY: This action modifies Class D airspace at Knob Noster, Whiteman AFB, MO, modifies Class E airspace designated as a surface area for Knob Noster, Whiteman AFB, MO and modifies Class E airspace extending upward from 700 feet above the surface of the earth at Knob Noster, Whiteman AFB, MO. Modifications to the Knob Noster, Whiteman AFB, MO Class D airspace and the Knob Noster, Whiteman AFB, MO Class E airspace designated as a surface area are required in order to provide adequate controlled airspace for circling requirements of Category E aircraft executing instrument flight procedures. The extension of the Knob Noster, Whiteman AFB, MO Class E airspace extending upward from 700 feet above the surface of the earth is no longer required. This action modifies Class D airspace, Class E airspace designated as a surface area and Class E airspace extending upward from 700 feet above the surface of the earth at Knob Noster, Whiteman AFB, MO.

EFFECTIVE DATE: 0902 UTC, December 26, 2002.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On Wednesday, August 28, 2002, the FAA proposed to amend 14 CFR part 71 to modify Class D and Class E airspace at Knob Noster, Whiteman AFB, MO (67 FR 21136). The proposal was to modify Class D airspace and Class E airspace designated as a surface area to contain instrument approach procedures and to eliminate the extension to Class E airspace extending upward from 700 feet above the surface of the earth. Interested parties were invited to participate in this rulemaking proceeding by submitting written comments on the proposal to the FAA. No comments objecting to the proposal were received. Class D airspace designations are published in paragraph 5000, Class E airspace areas extending upward from the surface of the earth in paragraph 6002, and Class E airspace areas extending upward from 700 feet or more above the surface of the earth in paragraph 6005, of FAA Order 7400.9K, dated August 30, 2002, and effective September 16, 2002, which is incorporated by reference in 14 CFR 71.1. The Class D and E airspace designations listed in this document would be published subsequently in the Order.

The Rule

This amendment to Part 71 of the Federal Aviation Regulations (14 CFR Part 71) modifies Class D and Class E airspace at Knob Noster, Whiteman AFB, MO to provide adequate controlled airspace for aircraft executing instrument flight procedures. It also removes from Class E airspace designation airspace no longer required to be identified as controlled airspace. The areas will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 5000 Class D Airspace.

* * * * *

ACE MO D Knob Noster, MO

Whiteman AFB, MO

(Lat. 38°43′49″ N., long. 93°32′53″ W.)

That airspace extending upward from the surface to and including 3,400 feet MSL and within a 6.5-mile radius of Whiteman AFB. This Class D airspace area is effective during the specific dates and times established in advance by a Notice to Airmen. The effective date and time will thereafter be continuously published in the Airport/Facility Directory

* * * * *

Paragraph 6002 Class E airspace areas designated as a surface area for an airport.

* * * * *

ACE MO E2 Knob Noster, MO

Whiteman AFB, MO

(Lat. 38°43′49″ N., long. 93°32′53″ W.)

That airspace extending upward from the surface within a 6.5-mile radius of Whiteman AFB. This Class E airspace area is effective during the specific dates and times established in advance by a Notice to Airmen. The effective date and time will thereafter be continuously published in the Airport/Facility Directory.

* * * * *

Paragraph 6005 Class E airspace areas extending upward from 700 feet or more above the surface of the earth.

* * * * *

ACE MO E5 Knob Noster, MO

Whiteman AFB, MO

(Lat. 38°43′49″ N., long. 93°32′53″ W.)

That airspace extending upward from 700 feet above the surface of the earth within a 7-mile radius of Whiteman AFB.

* * * * *

Issued in Kansas City, MO, on October 9, 2002.
Herman J. Lyons, Jr.
Manager, Air Traffic Division, Central Region.

[FR Doc. 02-27176 Filed 10-24-02; 8:45 am]

BILLING CODE 4910-13-M